DEPARTMENT OF DEFENSE

Office of the Secretary

Availability of the Fiscal Year 2011 Inventory of Contracts for Services

AGENCY: Department of Defense (DoD).

ACTION: Notice of availability.

SUMMARY: DoD announces the availability of the Inventory of Contracts for Services for Fiscal Year 2011 pursuant to section 807 of the National Defense Authorization Act of Fiscal Year 2008. Inventory is available to the public.

DATES: Comments should be submitted by October 10, 2012.

ADDRESSES: Submit comments to: Office of the Director, Defense Procurement and Acquisition Policy, ATTN: OUSD (AT&L) DPAP (CPIC), 3060 Defense Pentagon, Washington, DC 20301-3060. Comments also may be submitted by email to Jeffrey.Grover@osd.mil.

FOR FURTHER INFORMATION CONTACT: Jeff Grover, telephone 703-697-9352.

SUPPLEMENTARY INFORMATION: In accordance with section 2330a of title 10 United States Code, as amended by section 807 of the National Defense Authorization Act for Fiscal Year 2008, the Office of the Deputy Director, Defense Procurement and Acquisition Policy, Contract Policy and International Contracting (DPAP/CPIC) will make available to the public the annual inventory of contracts for services. The inventory is posted to the Defense Procurement and Acquisition Policy Web site at: http://www.acq.osd.mil/dpap/cpic/cp/acquisition_of_services_policy.html.

Manuel Quinones,
Editor, Defense Acquisition Regulations System.

[FR Doc. 2012-23050 Filed 9-18-12; 8:45 am]

BILLING CODE 5001-06-P